DEPARTMENT OF COMMERCE

National Oceanic and Atmospheric Administration

50 CFR Part 679

[Docket No. 991228352-0012-02; I.D. 040500A]

Fisheries of the Exclusive Economic Zone Off Alaska; Rock Sole by Catcher Vessels Using Trawl Gear in the Bering Sea and Aleutian Islands

AGENCY: National Marine Fisheries Service (NMFS), National Oceanic and Atmospheric Administration (NOAA), Commerce.

ACTION: Closure.

SUMMARY: NMFS is closing directed fishing for rock sole by catcher vessels that are non-exempt under the American Fisheries Act (AFA) in the Bering Sea and Aleutian Islands management area (BSAI). This action is necessary to prevent exceeding the interim 2000 BSAI AFA catcher vessel sideboard amount of rock sole.

DATES: Effective 1200 hrs, Alaska local time (A.l.t.), April 6, 2000, until 2400 hrs, A.l.t., December 31, 2000.

FOR FURTHER INFORMATION CONTACT: Andrew Smoker, 907-586-7228.

SUPPLEMENTARY INFORMATION: NMFS manages the groundfish fishery in the BSAI according to the Fishery Management Plan for the Groundfish Fishery of the Bering Sea and Aleutian Islands Area under authority of the Magnuson-Stevens Fishery Conservation and Management Act. Regulations governing fishing by U.S. vessels in accordance with the FMP appear at subpart H of 50 CFR part 600 and 50 CFR part 679.

The amount of the interim 2000 BSAI AFA catcher vessel rock sole sideboard harvest limit was established as 2,921 metric tons (mt) in accordance with § 679.63 (b)(1)(ii)(A) by the Emergency Interim Rule to Implement Major Provisions of the American Fisheries Act (65 FR 4520, January 28, 2000).

In accordance with § 679.20(d)(1)(iv), the Administrator, Alaska Region, NMFS (Regional Administrator), has determined that the sideboard harvest limit of rock sole for non-exempt AFA catcher vessels will be reached. Therefore, the Regional Administrator is establishing a directed fishing allowance of 2,500 mt, and is setting aside the remaining 421 mt as bycatch to support other anticipated groundfish fisheries. In accordance with § 679.20(d)(1)(iii), the Regional Administrator finds that this directed fishing allowance will soon be reached. Consequently, NMFS is closing directed fishing for rock sole by non-exempt AFA catcher vessels in the BSAI.

Maximum retainable bycatch amounts may be found in the regulations at § 679.20(e) and (f).

Classification

This action responds to the best available information recently obtained from the fishery. It must be implemented immediately in order to prevent exceeding the interim 2000 BSAI AFA catcher vessel sideboard of rock sole in the BSAI. A delay in the effective date is impracticable and contrary to the public interest. The rock sole AFA catcher vessel sideboard harvest limit directed fishing allowance will soon be reached. Further delay would only result in exceeding the harvest limitation. NMFS finds for good cause that the implementation of this action can not be delayed for 30 days. Accordingly, under 5 U.S.C. 553(d), a delay in the effective date is hereby waived.

This action is required by § 679.20 and is exempt from review under E.O. 12866.

Authority: 16 U.S.C. 1801 et seq.

Dated: April 5, 2000.
George H. Darcy,
Acting Director, Office of Sustainable Fisheries, National Marine Fisheries Service.

[FR Doc. 00-8932 Filed 4-6-00; 3:11 pm]

BILLING CODE 3510-22-F